DEPARTMENT OF COMMERCE

National Oceanic and Atmospheric Administration

[I.D. 120205B]

Endangered and Threatened Species: Notice of Intent to Prepare a Recovery Plan for Central California Coast Coho Salmon

AGENCY: National Marine Fisheries Service (NMFS), National Oceanic and Atmospheric Administration (NOAA), Commerce.

ACTION: Notice of Intent to prepare a recovery plan; request for information.

SUMMARY: NMFS is required by the Federal Endangered Species Act of 1973 (ESA), as amended to develop plans for the conservation and survival of Federally listed species, i.e., recovery plans. NMFS is announcing its' intent to prepare a recovery plan for the Central California Coast coho salmon (Oncorhynchus kisutch) Evolutionarily Significant Unit (CCC coho salmon ESU) and requests information from the public.

DATES: Information must be received within 120 days of the publication of this notice.

ADDRESSES: Submit materials by any of the following methods:

• E-mail: CohoRecovery.swr@noaa.gov (No files larger than 5MB will be accepted).

• Mail: National Marine Fisheries Service, 777 Sonoma Avenue, Suite 325, Santa Rosa, CA 95404, ATTN: Recovery Coordinator/CCC Coho Salmon Recovery Plan Comments.

• Hand-Delivered: National Marine Fisheries Service, 777 Sonoma Avenue, Suite 325, Santa Rosa, CA 95404, ATTN: Recovery Coordinator/CCC Coho Salmon Recovery Plan Comments. Business hours are 8 am to 5 pm Monday through Friday, except Federal holidays.

• Fax: (707) 578-3435. Please include the following on the cover page of the fax “Attn: Recovery Coordinator/CCC Coho Salmon Recovery Plan Comments”.

FOR FURTHER INFORMATION CONTACT: Charlotte Ambrose, North-Central California Coast Recovery Coordinator at 707-575-6068 or Charlotte.A.Ambrose@noaa.gov.

SUPPLEMENTARY INFORMATION: NMFS is charged with the recovery of Pacific salmon and steelhead species listed under the ESA. The recovery planning process is guided by the statutory language of section 4(f) of the ESA and NMFS policies. Recovery is the use of all methods and procedures which are necessary to bring any endangered species or threatened species to the point at which the measures provided pursuant to the ESA are no longer necessary. The ESA specifies that recovery plans must include: (1) a description of management actions as may be necessary to achieve the plan's goals for the conservation and survival of the species; (2) objective, measurable criteria which, when met, would result in the species being removed from the list; and (3) estimates of time and costs required to achieve the plan's goal and the intermediate steps towards that goal. Section 4(f) of the ESA, as amended in 1988, requires that public notice and an opportunity for public review and comment be provided during recovery plan development. NMFS is hereby soliciting relevant information on CCC coho salmon ESU populations and their freshwater/marine habitats.

NMFS will work closely with the California Department of Fish and Game to integrate, where appropriate, the recently developed and State-approved February 2004 Recovery Strategy for California Coho Salmon with the Federal Recovery Plan. Workshops during recovery plan development will be noticed across the range of the CCC coho salmon ESU and, upon completion, the draft Recovery Plan will be available for public review and comment through publication in the Federal Register. NMFS requests relevant information from the public that should be considered by NMFS during preparation of the draft recovery plan.

Authority

The authority for this action is section 4(f) of the ESA.

Dated: December 12, 2005.
Angela Somma,
Chief, Endangered Species Division, Office of Protected Resources, National Marine Fisheries Service.

[FR Doc. E5-7458 Filed 12-15-05; 8:45 am]

BILLING CODE 3510-22-S